DEPARTMENT OF ENERGY

Federal Energy Regulatory Commission

Combined Notice of Filings #1

Take notice that the Commission received the following electric corporate filings:

Docket Numbers: EC17-138-001.

Applicants: 83WI 8me, LLC.

Description: Notification of certain non-material changes of 83WI 8me, LLC.

Filed Date: 11/27/17.

Accession Number: 20171127-5146.

Comments Due: 5 p.m. ET 12/18/17.

Docket Numbers: EC18-25-000.

Applicants: Imperial Valley Solar 3, LLC.

Description: Application for Authorization Under Section 203 of the Federal Power Act for the Acquisition of Jurisdictional Facilities and Request for Expedited Consideration of Imperial Valley Solar 3, LLC.

Filed Date: 11/28/17.

Accession Number: 20171128-5091.

Comments Due: 5 p.m. ET 12/19/17.

Take notice that the Commission received the following electric rate filings:

Docket Numbers: ER17-2318-001.

Applicants: Cuyama Solar, LLC.

Description: Notice of Change in Status of Cuyama Solar, LLC.

Filed Date: 11/28/17.

Accession Number: 20171128-5098.

Comments Due: 5 p.m. ET 12/19/17.

Docket Numbers: ER18-319-001.

Applicants: Southwest Power Pool, Inc.

Description: Compliance filing: Errata to Compliance Filing in ER18-319 to be effective 10/19/2017.

Filed Date: 11/28/17.

Accession Number: 20171128-5051.

Comments Due: 5 p.m. ET 12/19/17.

Docket Numbers: ER18-331-000.

Applicants: PJM Interconnection, L.L.C.

Description: § 205(d) Rate Filing: Queue #Z1-069/AB1-160, Second Revised Service Agreement No. 4315 to be effective 10/26/2017.

Filed Date: 11/27/17.

Accession Number: 20171127-5108.

Comments Due: 5 p.m. ET 12/18/17.

Docket Numbers: ER18-332-000.

Applicants: Southwest Power Pool, Inc.

Description: § 205(d) Rate Filing: 3378 MKEC & Ninnescah Rural Electric Interconnection Agr to be effective 11/15/2017.

Filed Date: 11/28/17.

Accession Number: 20171128-5001.

Comments Due: 5 p.m. ET 12/19/17.

Docket Numbers: ER18-333-000.

Applicants: Pacific Gas and Electric Company.

Description: § 205(d) Rate Filing: E&P Agreement for Proxima Solar, LLC to be effective 11/29/2017.

Filed Date: 11/28/17.

Accession Number: 20171128-5067.

Comments Due: 5 p.m. ET 12/19/17.

Docket Numbers: ER18-334-000.

Applicants: Cuyama Solar, LLC.

Description: § 205(d) Rate Filing: Revised Market Based Rate Tariff to be effective 1/28/2018.

Filed Date: 11/28/17.

Accession Number: 20171128-5087.

Comments Due: 5 p.m. ET 12/19/17.

Docket Numbers: ER18-335-000.

Applicants: Luning Energy Holdings LLC.

Description: Tariff Cancellation: Notice of Cancellation of Market-Based Rate Tariff to be effective 1/28/2018.

Filed Date: 11/28/17.

Accession Number: 20171128-5092.

Comments Due: 5 p.m. ET 12/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2017.
Nathaniel J. Davis, Sr.,
Deputy Secretary.

[FR Doc. 2017-26097 Filed 12-4-17; 8:45 am]

BILLING CODE 6717-01-P